DEPARTMENT OF HEALTH AND HUMAN SERVICES

Centers for Disease Control and Prevention

Advisory Committee to the Director (ACD), Centers for Disease Control and Prevention—State, Tribal, Local and Territorial (STLT) Subcommittee

In accordance with section 10(a)(2) of the Federal Advisory Committee Act (Pub. L. 92-463), the Centers for Disease Control and Prevention (CDC) announces the following meeting of the aforementioned subcommittee:

Time and Date: 8:30 a.m.-4:00 p.m. EDT, August 11, 2016

Place: CDC, Building 19, Rooms 245-246, 1600 Clifton Road NE., Atlanta, Georgia 30329.

Status: Open to the public, limited only by the space available. The meeting room accommodates approximately 20 people. The public is welcome to participate during the public comment, which is tentatively scheduled from 3:15 to 3:35 p.m. This meeting is also available by teleconference. Please dial (888) 233-0592 and enter code 33288611.

Purpose: The Subcommittee will provide advice to the CDC Director through the ACD on strategies, future needs, and challenges faced by State, Tribal, Local and Territorial health agencies, and will provide guidance on opportunities for CDC.

Matters for Discussion: The STLT subcommittee members will discuss progress on implementation of ACD-adopted recommendations related to the health department of the future, other emerging challenges and how CDC can best support STLT health departments in the transforming health system.

The agenda is subject to change as priorities dictate.

Contact Person for More Information

John Auerbach, MBA, Designated Federal Officer, STLT Subcommittee, ACD, CDC, 4770 Buford Hwy, MS E70, Atlanta, GA 30341, Telephone (404) 498-0300, Email: OSTLTSDirector@cdc.gov. Please submit comments to OSTLTSDirector@cdc.gov no later than August 4, 2016.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-15932 Filed 7-5-16; 8:45 am]

BILLING CODE 4163-18-P